DEPARTMENT OF TRANSPORTATION

Federal Aviation Administration

14 CFR Part 71

[Airspace Docket No. 99-AGL-42]

Modification of Class E Airspace; Marquette, MI; Revocation of Class E Airspace; Sawyer, MI, and K.I. Sawyer, MI

AGENCY: Federal Aviation Administration (FAA), DOT.

ACTION: Final rule; delay of effective date.

SUMMARY: On December 3, 1999, the FAA published a final rule modifying Class E airspace at Marquette, MI, and revoking the Class E airspace at Sawyer, MI, and K.I. Sawyer, MI. An integral part of this airspace action is the decommissioning of the Marquette, MI, VHF Omnidirectional Range/Distance Measuring Equipment (VOR/DME) (MQT) and commissioning of the new Gwinn, MI, VOR/DME (GWI). In review of the delay in the commissioning, due to construction, of the new Gwinn VOR/DME, the effective date of this final rule is delayed until further notice.

EFFECTIVE DATE: The effective date of 0901 UTC, February 24, 2000 for the final rule published at 64 FR 67713 is delayed indefinitely. FAA will publish a document in the Federal Register establishing a new effective date.

FOR FURTHER INFORMATION CONTACT: Denis C. Burke, Air Traffic Division, Airspace Branch, AGL-520, Federal Aviation Administration, 2300 East Devon Avenue, Des Plaines, Illinois 60018, telephone (847) 294-7568.

SUPPLEMENTARY INFORMATION: On December 3, 1999, the FAA published a final rule modifying Class E airspace at Marquette, MI, and revoking the Class E airspace at Sawyer, MI, and K.I. Sawyer, MI (64 FR 67713). Due to a delay in construction, and subsequent commissioning, of the new Gwinn, MI, VOR/DME this airspace action cannot be implemented on the original effective date.

Accordingly, the effective date of the modification of the Class E airspace at Marquette, MI, and the revocation of the Class E airspace at Sawyer, MI, and K.I. Sawyer, MI, is delayed until further notice. In consideration of the foregoing, the effective date of February 24, 2000, for the final rule modifying Class E airspace at Marquette, MI, and revoking the Class E airspace at Sawyer, MI, and K.I. Sawyer, MI (64 FR 67713, December 3, 1999) is delayed until further notice.

Dated: Issued in Des Plaines, Illinois on January 18, 2000.
Christopher R. Blum,
Manager, Air Traffic Division.

[FR Doc. 00-2251 Filed 2-1-00; 8:45 am]

BILLING CODE 4910-13-M